FEDERAL TRADE COMMISSION

16 CFR Part 305

RIN 3084-AB15

Energy Labeling Rule

AGENCY: Federal Trade Commission (“FTC” or “Commission”).

ACTION: Final rule.

SUMMARY: The Commission amends the Energy Labeling Rule (“Rule”) by updating ranges of comparability and unit energy cost figures on EnergyGuide labels for dishwashers, furnaces, room air conditioners, and pool heaters. The Commission also sets a compliance date of October 1, 2019 for EnergyGuide labels on room air conditioner boxes and makes several minor clarifications and corrections to the Rule.

DATES: The amendments are effective May 23, 2018.

ADDRESSES: Relevant portions of the record of this proceeding, including this document, are available at http://www.ftc.gov.

FOR FURTHER INFORMATION CONTACT: Hampton Newsome, (202) 326-2889, Attorney, Division of Enforcement, Bureau of Consumer Protection, Federal Trade Commission, Room CC-9528, 600 Pennsylvania Avenue NW, Washington, DC 20580.

SUPPLEMENTARY INFORMATION:

I. Background

The Commission issued the Energy Labeling Rule (“Rule”) in 1979,¹ pursuant to the Energy Policy and Conservation Act of 1975 (EPCA).² The Rule requires energy labeling for major home appliances and other consumer products to help consumers compare competing models. It also contains labeling requirements for refrigerators, refrigerator-freezers, freezers, dishwashers, water heaters, clothes washers, room air conditioners, furnaces, central air conditioners, heat pumps, plumbing products, lighting products, ceiling fans, and televisions.

¹ 44 FR 66466 (Nov. 19, 1979).

² 42 U.S.C. 6294. EPCA also requires the Department of Energy (DOE) to develop test procedures that measure how much energy appliances use, and to determine the representative average cost a consumer pays for different types of energy.

The Rule requires manufacturers to attach yellow EnergyGuide labels to many covered products and prohibits retailers from removing these labels or rendering them illegible. In addition, it directs sellers, including retailers, to post label information on websites and in paper catalogs from which consumers can order products. EnergyGuide labels for most covered products contain three key disclosures: Estimated annual energy cost, a product's energy consumption or energy efficiency rating as determined by DOE test procedures, and a comparability range displaying the highest and lowest energy costs or efficiency ratings for all similar models. For cost calculations, the Rule specifies national average costs for applicable energy sources (e.g., electricity, natural gas, oil) as calculated by DOE. Under the Rule, the Commission periodically updates comparability range and annual energy cost information based on manufacturer data submitted pursuant to the Rule's reporting requirements. The Rule also sets a five-year schedule for updating comparability range and annual energy cost information.³

³ 16 CFR 305.10.

II. Proposed Amendments

In a November 9, 2017 Notice of Proposed Rulemaking (NPRM), the Commission sought comment on proposed updates to the Rule's comparability ranges and amendments to set a compliance date for EnergyGuide labels on room air conditioner boxes. The Commission received 10 comments in response.⁴ After reviewing the comments, the Commission now issues final amendments addressing these issues.

⁴ See 82 FR 52024. The comments received in response to the NPRM are here: https://www.ftc.gov/policy/public-comments/2017/12/initiative-730. The comments included: Air-Conditioning, Heating, and Refrigeration Institute (AHRI) (#00006); American Public Gas Association (APGA) (#00007); National Electrical Manufacturers Association (NEMA) (#00008); Association of Home Appliance Manufacturers (AHAM) (#00009); Earthjustice (“Joint Commenters”) (#00010); Grear (#00011); Kremer (#00005); O'Hare (#00004); Castillo (#00003); and Chambers (#00002).

III. Final Amendments

A. Comparability Range and Energy Cost Revisions

Background: In the NPRM, the Commission proposed revisions to the comparability range and energy cost information for dishwashers, furnaces, pool heaters, and room air conditioners.⁵ The comparability ranges (i.e., scales) show the highest and lowest energy costs or energy efficiency ratings of models similar to the labeled product. The Commission derives these ranges from annual data submitted by manufacturers. In addition, the Commission proposed updating the average energy cost figures manufacturers must use to calculate a model's estimated energy cost for the label based on national average cost figures published by DOE.⁶ The Commission also proposed amending the energy cost tables in Appendix K to clarify the cost applicable to various covered products.⁷ To effect these changes, the Commission proposed amending the applicable tables in the Rule's appendices. Under the Rule (§ 305.10), manufacturers must begin using this new information on product labels within 90 days after publication of the updated tables.

⁵ 16 CFR 305.10. This document also updates the sample labels in the Rule's appendices to reflect the new range and cost information and to include the minor label content changes discussed in this document.

⁶ 82 FR 21213 (May 5, 2017) (DOE notice for “Representative Average Unit Costs of Energy”).

⁷ Applicable energy cost figures for ceiling fans, lighting products, and televisions appear in §§ 305.13 (effective September 17, 2018), 305.15, and 305.17 respectively.

The Commission did not propose amending the range and cost information for EnergyGuide labels for refrigerators, freezers, clothes washers, water heaters, central air conditioners, and televisions because the Commission has recently updated label information for these products.⁸ The Commission explained in the NPRM that changing labels for these products so soon would unnecessarily burden manufacturers and potentially confuse consumers by introducing new label information in the marketplace.⁹

⁸ See 81 FR 63634 (Sept. 15, 2016) (new range information for refrigerators and freezers, water heaters, and central air conditioners effective June 12, 2017); 81 FR 7201 (Feb. 11, 2016) (new ranges for clothes washers effective May 11, 2016); and 80 FR 16259 (Mar. 27, 2015) (updated ranges for televisions effective July 15, 2015).

⁹ The Commission followed a similar approach during the last cycle of range and cost updates. See 78 FR 1779 (Jan. 9, 2013).

Comments: Though commenters generally supported the updated ranges, AHRI and O'Hare recommended minor changes. Specifically, AHRI noted that the new range for oil-fired boilers should reflect several models rated at an Annual Fuel Utilization Efficiency (AFUE) of 82.0. O'Hare suggested the upper end of the pool heater thermal efficiency range on the sample label be 96.0 to reflect the amended table in Appendix J1.

In addition, several energy efficiency and consumer organizations (the “Joint Commenters”) recommended new ranges for clothes washers. They explained that new DOE standards, which become effective in January 2018, will significantly change the lower end of the ranges for these products (for both standard and compact capacity categories) by removing many existing lower efficiency models from the market. In the Joint Commenters' view, delay in updating the ranges will result in ranges that include products no longer manufactured, thus misleading consumers about the efficiency and operating costs of models in production. The commenters also argued that such inaccurate ranges would violate EPCA's directive (see 42 U.S.C. 6294(c)(1)(B)) to provide range information for “covered products to which the rule applies.”

Discussion: The Commission amends the Rule to implement the updates proposed in the NPRM and the minor changes suggested by the commenters. The Commission, however, does not update the clothes washer ranges at this time. Because the Commission updated the range data for clothes washer labels in 2016 (81 FR 7201 (Feb. 11, 2016)), it is reluctant to change the labels again after such a short interval because it would create inconsistent labels for consumers during the transition and unnecessarily burden manufacturers. However, the Commission will review new clothes washer data in light of the new DOE 2018 standards and consider whether to propose updating the ranges.

The Commission does not agree with the Joint Commenters that the current ranges violate EPCA's directive to provide range information for “covered products to which the rule applies.” The Commission interprets this statutory instruction, together with the directive in 42 U.S.C. 6294(c)(2)(B), as applying to general product types (i.e., categories), not to individual models. Furthermore, models frequently appear in the market that may fall outside of the Rule's current range, and the statute contains no requirement for the Commission to update ranges continuously. Indeed, the law prohibits the Commission from updating ranges more often than annually.¹⁰

¹⁰ 42 U.S.C. 6296(c).

B. Room Air Conditioner Labels on Packages

Background: In the NPRM, the Commission proposed a compliance date for changes to room air conditioner labels. In 2015, the Commission announced final amendments requiring labels on room air conditioner boxes and replacing the EER (“Energy Efficiency Ratio”) disclosure with CEER (“Combined Energy Efficiency Ratio”) (80 FR 67285, 67292-3 (Nov. 2, 2015)). However, to reduce burden on manufacturers that use both the U.S. and Canadian labels, the Commission delayed a compliance date announcement until Natural Resources Canada (NRCan), which administers the Canadian EnerGuide labeling program, had announced similar provisions. On December 28, 2016, NRCan published regulatory amendments providing manufacturers the option to print the EnerGuide label on packaging (Canada Gazette, Vol. 150, No. 26 (Dec. 28, 2016)) in lieu of affixing the EnerGuide label to the product. The Commission then proposed a compliance date of October 1, 2018, explaining that October coincides with the beginning of the industry's annual production cycle (i.e., the cooling season).

Comments: AHAM generally supported the change from EER to CEER, as well as the transition to labels on product boxes. However, it urged the Commission to provide additional time for this transition. Specifically, AHAM argued that the change will require manufacturers to completely redesign their packaging to accommodate the label. Accordingly, AHAM requested that the Commission set an October 1, 2019 date for the box labels.

Discussion: In response to AHAM's concerns, the Commission sets the compliance date at October 1, 2019 to provide manufacturers ample time to make the transition to box labels. As indicated in the NPRM, manufacturers generally deploy their product lines on an annual basis beginning in October of each year. According to AHAM, an October 2018 compliance date likely would not provide adequate time for making the required changes. In addition, the Commission expects a compliance date falling in the middle of the annual production cycle could cause significant disruption. If they so choose, manufacturers may begin using the labels on packages before the October 1, 2019 compliance date. In the meantime, they must continue to affix labels to the products themselves and provide labels online. The amendments also change the label's efficiency disclosure from EER to CEER as proposed.¹¹ Manufacturers should begin using CEER along with the new ranges published in this document (i.e., within 90 days of publication).

¹¹ 80 FR at 67292-3.

C. Technical Corrections and Clarifications

Background: In the NPRM, the Commission proposed several minor clarifying and corrective amendments. These included a clarification to § 305.10(c) regarding labeling for models falling outside of the current ranges, as well as corrections to §§ 305.5 (obsolete reference to LED bulb tests), 305.8 (reference to the timing of reporting requirements), 305.12 (sample label references for central air conditioners labels), and 305.16 (plumbing disclosures).

Comments: Several commenters, including AHAM and NEMA, supported these minor amendments. No comments opposed them. However, AHAM requested additional clarifications. First, it recommended replacing the term “operating cost” with “energy cost” in § 305.10(c)(2) and on the sample clothes washer label in appendix L to ensure consistency with other sample labels and Rule provisions. According to AHAM, industry members have used the term “energy cost” on labels prepared pursuant to § 305.10 for this reason. In addition, most of the labels and applicable Rule text in § 305.11 use the term “energy cost.” AHAM urged the Commission to provide ample time for manufacturers to make any necessary changes.

AHAM also urged the Commission to clarify the label language required for describing refrigerator-freezers that do not have through-the-door ice service. AHAM noted that the Rule's sample label uses the phrase “no through-the-door ice,” whereas the comparability range tables in appendix A state “Without Through-the-door-ice.” Although AHAM did not express a preference for the applicable language, it requested sufficient time for their members to change labels to avoid waste and unnecessary cost should the Commission issue a clarification.

Discussion: The Commission amends the Rule to include the proposed clarifications and technical corrections, including replacing the term “operating cost” with “energy cost” in § 305.10(c)(2) and on the clothes washer label as suggested by AHAM. The Commission does not expect these corrections to create any additional burden for manufacturers because current practice appears to be consistent with most of these changes. However, to the extent that manufacturers must change existing labels, they may do so after exhausting their current label supply to avoid unnecessary costs. Should individual manufacturers have questions about revising labels, they can contact FTC staff for guidance.¹²

¹² In addition, the final amendments correct § 305.11 to reinsert paragraphs (f)(10) and (11), which were inadvertently omitted in an earlier rulemaking (81 FR 63634, Sept. 15, 2016)). The Commission finds good cause for implementing the technical corrections recommended by AHAM and the correction to § 305.11 without further notice and comment. See 5 U.S.C. 553(b)(3)(B); 5 CFR 1.26(b).

The Commission, however, declines to amend the Rule's descriptions for refrigerator-freezers. The current Rule sets only general requirements for the content of these product descriptions at the labels top left and does not prescribe exact language that manufacturers must use.¹³ Accordingly, manufacturers may continue to use their present descriptions provided they are consistent with the Rule's refrigerator-freezer categories. The Commission may consider amending the Rule in the future to require uniform descriptors for refrigerator-freezers should stakeholders desire such a change. For now, without further notice and comment, the Commission does not change this provision of the Rule.

¹³ Though the model descriptions at the label's top left portion must be “consistent” with the tables in appendix A (§ 305.11(f)(4)), such descriptions do not have to track the language in the tables exactly. See 81 FR 63634, 63639, n. 39 (Sept. 15, 2016) (adding the requirements in § 305.11(f)(4) to ensure manufacturers do not list extraneous product features). However, explanatory language at the label's lower section must contain the specific descriptors set out in § 305.11(f)(9)(iii)) (“models with similar features . . .”).

D. Additional Issues Raised in Comments

A few commenters offered broad suggestions to improve aspects of the Energy Labeling Rule not discussed in NPRM, thus falling outside of the scope of the proposed amendments.¹⁴ For instance, the American Public Gas Association (APGA) recommended the Commission consider requiring source-based energy efficiency descriptors on the EnergyGuide labels to provide consumers with broader information about the overall environmental impacts of product use. APGA also urged the Commission to consider using marginal energy cost figures for calculating annual energy costs on labels, indicating that the average cost figures currently used for the labels overstate the costs. APGA urged the Commission to raise these issues in the future for further discussion.

¹⁴ Other comments (Castillo and Chambers) expressed general support for the Rule. One commenter (Kremer) argued that the Rule's labeling is “redundant” and that consumers only need wattage information.

Gear also provided several suggestions to improve the labels. First, Gear recommended state-by-state energy cost disclosures on the label to provide consumers with energy information reflecting the utility rates where they live. If such disclosures prove impracticable for individual labels, the commenter suggested the Commission consider providing this information online. Second, Gear recommended the label contain a “yearly cost compared to average” disclosure, as well as other design changes to address reported concerns with consumer comprehension. Finally, Gear recommended the Commission consider requiring labels for clothes dryers.

At this time, the Commission does not propose additional changes to the Rule, though it may consider such broader issues in the future. Without an opportunity for public comment and further consideration, the Commission cannot make such changes at this time. In recent years, the Commission has implemented many broad changes related to label design, reporting, and other aspects of the labeling program to improve information for consumers and industry members.¹⁵ Accordingly, the Commission does not plan to pursue these additional issues as part of the present amendments. Instead, the FTC staff will review these issues and consider whether to recommend additional amendments or non-regulatory measures in the future. It will also continue working outside the rulemaking context with DOE staff to explore online consumer information about the energy use of covered products, including source-based impacts and energy costs reflecting state or regional variations in fuel rates.

¹⁵ See, e.g., 75 FR 41696 (July 19, 2010) (new light bulb labels); 76 FR 1037 (Jan. 6, 2011) (television labels); 78 FR 2200 (Jan. 1, 2013) (online labels and streamlined reporting); 78 FR 8362 (Feb. 6, 2013) (regional standards for heating and cooling equipment); 80 FR 67285 (Nov. 2, 2015) (expansion of light bulb label coverage, increase label durability, and improve plumbing disclosures); 81 FR 63633 (Sept. 15, 2016) (improve access to energy labels online and improve labels for refrigerators, ceiling fans, central air conditioners, and water heaters).

IV. Paperwork Reduction Act

The current Rule contains recordkeeping, disclosure, testing, and reporting requirements that constitute information collection requirements as defined by 5 CFR 1320.3(c), the definitional provision within the Office of Management and Budget (OMB) regulations that implement the Paperwork Reduction Act. OMB has approved the Rule's existing information collection requirements through November 30, 2019 (OMB Control No. 3084 0069). The amendments do not change the substance or frequency of the recordkeeping, disclosure, or reporting requirements and, therefore, do not require further OMB clearance.

V. Regulatory Flexibility Act

The provisions of the Regulatory Flexibility Act relating to a Regulatory Flexibility Act analysis (5 U.S.C. 603-604) are not applicable to this proceeding because the amendments do not impose any new obligations on entities regulated by the Energy Labeling Rule. As explained elsewhere in this document, the amendments do not change the substance or frequency of the recordkeeping, disclosure, or reporting requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments will not have a significant economic impact on a substantial number of small entities.

List of Subjects in 16 CFR Part 305

Advertising, Energy conservation, Household appliances, Labeling, Reporting and recordkeeping requirements.

For the reasons set out above, the Commission amends 16 CFR part 305 as follows:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

§ 305.2 [Amended]

2. In § 305.2(p), remove the words “energy efficiency ratio (EER)” and add, in their place, “combined energy efficiency ratio (CEER)”.

3. In § 305.5, revise paragraph (a), remove paragraph (c), and redesignate paragraph (d) as paragraph (c) to read as follows:

§ 305.5 Determinations of estimated annual energy consumption, estimated annual operating cost, and energy efficiency rating, water use rate, and other required disclosure content.

(a) Unless otherwise stated in paragraphs (b) and (c) of this section, the content of any disclosures required by this part must be determined in accordance with the testing and sampling provisions required by the Department of Energy as set forth in subpart B to 10 CFR part 430, 10 CFR part 431, and 10 CFR 429.11.

* * * * *

§ 305.7 [Amended]

4. In § 305.7(f), remove the word “EER” and add, in its place, “CEER.”

5. In § 305.8, revise paragraph (c) to read as follows:

§ 305.8 Submission of data.

* * * * *

(c) All information required by paragraphs (a)(1) through (3) of this section must be submitted for new models prior to any distribution of such model. Models subject to design or retrofit alterations which change the data contained in any annual report shall be reported in the manner required for new models. Models which are discontinued shall be reported in the next annual report.

6. In § 305.10, paragraphs (a), (b), and (c)(2) are revised and paragraph (c)(3) is added to read as follows:

§ 305.10 Ranges of comparability on the required labels.

(a) Range of estimated annual energy costs or energy efficiency ratings. The range of estimated annual operating costs or energy efficiency ratings for each covered product (except televisions, ceiling fans, fluorescent lamp ballasts, lamps, metal halide lamp fixtures, showerheads, faucets, water closets and urinals) shall be taken from the appropriate appendix to this part in effect at the time the labels are affixed to the product. The Commission shall publish revised ranges in the Federal Register in 2022. When the ranges are revised, all information disseminated after 90 days following the publication of the revision shall conform to the revised ranges. Products that have been labeled prior to the effective date of a modification under this section need not be relabeled.

(b) Representative average unit energy cost. The Representative Average Unit Energy Cost to be used on labels as required by § 305.11 and disclosures as required by § 305.20 are listed in appendices K1 and K2 to this part. The Commission shall publish revised Representative Average Unit Energy Cost figures in the Federal Register in 2022. When the cost figures are revised, all information disseminated after 90 days following the publication of the revision shall conform to the new cost figure.

(c) * * *

(2) Add one of the two sentences below, as appropriate, in the space just below the scale on the label, as follows:

The estimated yearly energy cost of this model was not available at the time the range was published.

The energy efficiency rating of this model was not available at the time the range was published.

(3) For refrigerator and refrigerator-freezer labels:

(i) If the model's energy cost falls outside of either or both ranges on the label, include the language in paragraph (c)(2) of this section.

(ii) If the model's energy cost only falls outside of the range for models with similar features, but is within the range for all models, include the product on the scale and place a triangle below the dollar value.

(iii) If the model's energy cost falls outside of both ranges of comparability, omit the triangle beneath the yearly operating cost value.

7. Amend § 305.11 by revising paragraphs (d) introductory text, (d)(3), and (f)(9)(x) and adding paragraphs (f)(10) and (11) to read as follows:

§ 305.11 Labeling for refrigerators, refrigerator-freezers, freezers, dishwashers, clothes washers, water heaters, room air conditioners, and pool heaters.

* * * * *

(d) Label types. Except as indicated in paragraph (d)(3) of this section, the labels must be affixed to the product in the form of an adhesive label or a hang tag as follows:

* * * * *

(3) Package labels for certain products. Labels for electric instantaneous water heaters shall be printed on or affixed to the product's packaging in a conspicuous location. Labels for room air conditioners produced on or after October 1, 2019 shall be printed on or affixed to the principal display panel of the product's packaging.

* * * * *

(f) * * *

(9) * * *

(x) For clothes washers covered by appendices F1 and F2 of this part, the statement will read as follows (fill in the blanks with the appropriate capacity and energy cost figures):

Your costs will depend on your utility rates and use.

Cost range based only on [compact/standard] capacity models.

Estimated energy cost is based on six wash loads a week and a national average electricity cost of __ cents per kWh and natural gas cost of $ __ per therm. ftc.gov/energy.

* * * * *

(10) The following statement shall appear on each label as illustrated in the prototype and sample labels in appendix L of this part:

Federal law prohibits removal of this label before consumer purchase.

(11) No marks or information other than that specified in this part shall appear on or directly adjoining this label except that:

(i) A part or publication number identification may be included on this label, as desired by the manufacturer. If a manufacturer elects to use a part or publication number, it must appear in the lower right-hand corner of the label and be set in 6-point type or smaller.

(ii) The energy use disclosure labels required by the governments of Canada or Mexico may appear directly adjoining this label, as desired by the manufacturer.

(iii) The manufacturer or private labeler may include the ENERGY STAR logo on the bottom right corner of the label for certified products. The logo must be 1 inch by 1 inch in size. Only manufacturers that have signed a Memorandum of Understanding with the Department of Energy or the Environmental Protection Agency may add the ENERGY STAR logo to labels on certified covered products; such manufacturers may add the ENERGY STAR logo to labels only on those covered products that are contemplated by the Memorandum of Understanding.

8. In § 305.12, revise paragraphs (g)(12)(ii), (g)(13)(ii), (g)(14) introductory text, and (g)(14)(ii) to read as follows:

§ 305.12 Labeling for central air conditioners, heat pumps, and furnaces.

* * * * *

(g) * * *

(12) * * *

(ii) A map appropriate for the model and accompanying text as illustrated in the sample label 7 in appendix L of this part.

* * * * *

(13) * * *

(ii) A map appropriate for the model and accompanying text as illustrated in the sample label 7 in appendix L of this part.

* * * * *

(14) For any single-package air conditioner with a minimum EER below 11.0, the label must contain the following regional standards information:

* * * * *

(ii) A map appropriate for the model and accompanying text as illustrated in the sample label 7 in appendix L of this part.

* * * * *

§ 305.16 [Amended]

9. Amend § 305.16 by removing paragraph (a)(5).

10. Appendix C1 to part 305 is revised to read as follows:

Appendix C1 to Part 305—Compact Dishwashers

Range Information

“Compact” includes countertop dishwasher models with a capacity of fewer than eight (8) place settings. Place settings shall be in accordance with appendix C to 10 CFR part 430, subpart B. Load patterns shall conform to the operating normal for the model being tested.

Capacity | Range of estimated annual energy costs (dollars/year): Low | Range of estimated annual energy costs (dollars/year): High
Compact | $17 | $27

11. Appendix C2 to part 305 is revised to read as follows:

Appendix C2 to Part 305—Standard Dishwashers

Range Information

“Standard” includes dishwasher models with a capacity of eight (8) or more place settings. Place settings shall be in accordance with appendix C to 10 CFR part 430, subpart B. Load patterns shall conform to the operating normal for the model being tested.

Capacity | Range of estimated annual energy costs (dollars/year): Low | Range of estimated annual energy costs (dollars/year): High
Standard | $26 | $40

12. Appendix E to part 305 is revised to read as follows:

Appendix E to Part 305—Room Air Conditioners

Range Information

Manufacturer's rated cooling capacity in Btu's/hr | Range of estimated annual energy costs (dollars/year): Low | Range of estimated annual energy costs (dollars/year): High
Without Reverse Cycle and with Louvered Sides:
Less than 6,000 Btu | $40 | $53
6,000 to 7,999 Btu | 48 | 72
8,000 to 13,999 Btu | 65 | 127
14,000 to 19,999 Btu | 115 | 182
20,000 and more Btu | 189 | 386
Without Reverse Cycle and without Louvered Sides:
Less than 6,000 Btu | (*) | (*)
6,000 to 7,999 Btu | 58 | 80
8,000 to 13,999 Btu | 69 | 147
14,000 to 19,999 Btu | 117 | 158
20,000 and more Btu | (*) | (*)
With Reverse Cycle and with Louvered Sides | 68 | 238
With Reverse Cycle, without Louvered Sides | (*) | (*)
* No sufficient data submitted.

13. Revise appendices G1, G2, G3, G4, G5, G6, G7, and G8 to read as follows:

Appendix G1 to Part 305—Furnaces—Gas

Furnace type | Range of annual fuel utilization efficiencies (AFUEs): Low | Range of annual fuel utilization efficiencies (AFUEs): High
Non-Weatherized Gas Furnaces—All Capacities | 80.0 | 98.7
Weatherized Gas Furnaces—All Capacities | 81.0 | 95.0

Appendix G2 to Part 305—Furnaces—Electric

Furnace type | Range of annual fuel utilization efficiencies (AFUEs): Low | Range of annual fuel utilization efficiencies (AFUEs): High
Electric Furnaces—All Capacities | 100.0 | 100.0

Appendix G3 to Part 305—Furnaces—Oil

Type | Range of annual fuel utilization efficiencies (AFUEs): Low | Range of annual fuel utilization efficiencies (AFUEs): High
Non-Weatherized Oil Furnaces—All Capacities | 83.0 | 96.7
Weatherized Oil Furnaces—All Capacities | 78.0 | 83.0

Appendix G4 to Part 305—Mobile Home Furnaces—Gas

Type | Range of annual fuel utilization efficiencies (AFUEs): Low | Range of annual fuel utilization efficiencies (AFUEs): High
Mobile Home Gas Furnaces—All Capacities | 80.0 | 97.3

Appendix G5 to Part 305—Mobile Home Furnaces—Oil

Type | Range of annual fuel utilization efficiencies (AFUEs): Low | Range of annual fuel utilization efficiencies (AFUEs): High
Mobile Home Oil Furnaces—All Capacities | 80.0 | 87.0

Appendix G6 to Part 305—Boilers (Gas)

Type | Range of annual fuel utilization efficiencies (AFUEs): Low | Range of annual fuel utilization efficiencies (AFUEs): High
Gas Boilers (except steam)—All Capacities | 82.0 | 96.8
Gas Boilers (steam)—All Capacities | 80.4 | 83.4

Appendix G7 to Part 305—Boilers (Oil)

Type | Range of annual fuel utilization efficiencies (AFUEs): Low | Range of annual fuel utilization efficiencies (AFUEs): High
Oil Boilers—All Capacities | 82.0 | 90.0

Appendix G8 to Part 305—Boilers (Electric)

Type | Range of annual fuel utilization efficiencies (AFUEs): Low | Range of annual fuel utilization efficiencies (AFUEs): High
Electric Boilers—All Capacities | 100 | 100

14. Appendices J1 and J2 are revised to read as follows:

Appendix J1 to Part 305—Pool Heaters—Gas

Range Information

Manufacturer's rated heating capacities | Range of thermal efficiencies (percent): Natural Gas: Low | Range of thermal efficiencies (percent): Natural Gas: High | Range of thermal efficiencies (percent): Propane: Low | Range of thermal efficiencies (percent): Propane: High
All capacities | 82.0 | 96.0 | 82.0 | 96.0

Appendix J2 to Part 305—Pool Heaters—Oil

Range Information

Manufacturer's rated heating capacities | Range of thermal efficiencies (percent): Low | Range of thermal efficiencies (percent): High
All capacities | (*) | (*)
* No data submitted.

Appendix K to Part 305 [Removed]

15. Appendix K to part 305 is removed.

16. Appendices K1 and K2 are added to read as follows:

Appendix K1 to Part 305—Representative Average Unit Energy Costs for Refrigerators, Refrigerator-Freezers, Freezers, Clothes Washers, and Water Heater Labels

This Table contains the representative unit energy costs that must be utilized to calculate estimated annual energy cost disclosures required under §§ 305.11 and 305.20 for refrigerators, refrigerator-freezers, freezers, clothes washers, and water heaters. This Table is based on information published by the U.S. Department of Energy in 2013.

Type of energy | In commonly used terms | As required by DOE test procedure
Electricity | ¢12.00/kWh ² ³ | $.1200/kWh.
Natural Gas | $1.09/therm ⁴ or $11.12/MCF ⁵ ⁶ | $0.0000109/Btu.
No. 2 Heating Oil | $3.80/gallon ⁷ | $0.00002740/Btu.
Propane | $2.41/gallon ⁸ | $0.00002639/Btu.
Kerosene | $4.21/gallon ⁹ | $0.00003119/Btu.
¹ Btu stands for British thermal unit.
² kWh stands for kiloWatt hour.
³ 1 kWh = 3,412 Btu.
⁴ 1 therm = 100,000 Btu. Natural gas prices include taxes.
⁵ MCF stands for 1,000 cubic feet.
⁶ For the purposes of this table, 1 cubic foot of natural gas has an energy equivalence of 1,023 Btu.
⁷ For the purposes of this table, 1 gallon of No. 2 heating oil has an energy equivalence of 138,690 Btu.
⁸ For the purposes of this table, 1 gallon of liquid propane has an energy equivalence of 91,333 Btu.
⁹ For the purposes of this table, 1 gallon of kerosene has an energy equivalence of 135,000 Btu.

Appendix K2 to Part 305—Representative Average Unit Energy Costs for Dishwasher and Room Air Conditioner Labels

This Table contains the representative unit energy costs that must be utilized to calculate estimated annual energy cost disclosures required under §§ 305.11 and 305.20 for dishwashers and room air conditioners. This Table is based on information published by the U.S. Department of Energy in 2017.

Type of energy | In commonly used terms | As required by DOE test procedure
Electricity | ¢13.00/kWh ² ³ | $.1300/kWh.
Natural Gas | $1.05/therm ⁴ or $10.86/MCF ⁵ ⁶ | $0.00001052/Btu.
No. 2 Heating Oil | $2.59/gallon ⁷ | $0.00001883/Btu.
Propane | $1.53/gallon ⁸ | $0.00001672/Btu.
Kerosene | $3.01/gallon ⁹ | $0.00002232/Btu.
¹ Btu stands for British thermal units.
² kWh stands for kilowatt hour.
³ kWh = 3,412 Btu.
⁴ therm = 100,000 Btu.
⁵ MCF stands for 1,000 cubic feet.
⁶ For the purposes of this table, one cubic foot of natural gas has an energy equivalence of 1,032 Btu.
⁷ For the purposes of this table, one gallon of No. 2 heating oil has an energy equivalence of 137,561 Btu.
⁸ For the purposes of this table, one gallon of liquid propane has an energy equivalence of 91,333 Btu.
⁹ For the purposes of this table, one gallon of kerosene has an energy equivalence of 135,000 Btu.

17. In appendix L, revise prototype label 2, add sample label 2 in alphanumeric order, revise sample labels 3 and 4, add sample label 6 in alphanumeric order, and revise sample labels 9 and 9A to read as follows:

* * * * *

BILLING CODE 6750-01-P

* * * * *

* * * * *

* * * * *

* * * * *

* * * * *

* * * * *

* * * * *

By direction of the Commission.
Donald S. Clark,
Secretary.

[FR Doc. 2018-03665 Filed 2-21-18; 8:45 am]

BILLING CODE 6750-01-C